NUCLEAR REGULATORY COMMISSION

Sunshine Act; Notice of Meeting

DATES: Weeks of September 28, October 5, 12, 19, 26, November 2, 2009.

PLACE: Commissioners' Conference Room, 11555 Rockville Pike, Rockville, Maryland.

STATUS: Public and Closed.

Week of September 28, 2009

Tuesday, September 29, 2009

1:30 p.m. NRC All Employees Meeting (Public Meeting), Marriott Bethesda North Hotel, 5701 Marinelli Road, Rockville, MD 20852.

Wednesday, September 30, 2009

9:30 a.m. Discussion of Management Issues (Closed Ex. 2).

Week of October 5, 2009—Tentative

There are no meetings scheduled for the week of October 5, 2009.

Week of October 12, 2009—Tentative

Tuesday, October 13, 2009

9:30 a.m. Discussion of Security Issues (Closed Ex. 3).

Week of October 19, 2009—Tentative

There are no meetings scheduled for the week of October 19, 2009.

Week of October 26, 2009—Tentative

There are no meetings scheduled for the week of October 26, 2009.

Week of November 2, 2009—Tentative

There are no meetings scheduled for the week of November 2, 2009.

* * * * *

*The schedule for Commission meetings is subject to change on short notice. To verify the status of meetings, call (recording) (301) 415-1292. Contact person for more information: Rochelle Bavol, (301) 415-1651.

* * * * *

Additional Information

By a vote of 3-0 on September 22, 2009, the Commission determined pursuant to U.S.C. 552b(e) and § 9.107(a) of the Commission's rules that Affirmation of: a. South Texas Project Nuclear Operating Company (South Texas Project, Units 3 and 4), Request for Extension of Time to File Appeal and b. Pa'ina Hawaii, LLC (Materials License Application) Applicant's Motion to Transfer Case to the Commission) be held on September 23, 2009, with less than one week notice to the public. Both items were affirmed.

* * * * *

The NRC Commission Meeting Schedule can be found on the Internet at: http://www.nrc.gov/about-nrc/policy-making/schedule.html

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: September 24, 2009.
Rochelle C. Bavol,
Office of the Secretary.

[FR Doc. E9-23560 Filed 9-25-09; 4:15 pm]

BILLING CODE 7590-01-P